FEDERAL COMMUNICATIONS COMMISSION

Sunshine Act Meeting; Open Commission Meeting; Thursday, July 15, 2010

Date: July 8, 2010.

The Federal Communications Commission will hold an Open Meeting on the subjects listed below on Thursday July 15, 2010, which is scheduled to commence at 10:30 a.m. in Room TW-C305, at 445 12th Street, SW., Washington, DC.

ITEM NO. | BUREAU | SUBJECT
1 | WIRELINE COMPETITION | TITLE: Rural Health Care Support Mechanism (WC Docket No. 02-60) SUMMARY: The Commission will consider a Notice of Proposed Rulemaking initiating reforms to the Universal Service Rural Health Care Fund to expand the reach and use of broadband connectivity by health care providers throughout the nation.
2 | OFFICE OF ENGINEERING AND TECHNOLOGY, WIRELESS TELE-COMMUNICATIONS AND INTERNATIONAL | TITLE: Fixed and Mobile services in the Mobile Satellite Service Bands at 1525-1559 MHz and 1626.5-1660.5 MHz, 1610-1626.5 MHz and 2483.5-2500 MHz, and 2000-2020 MHz and 2180-2200 MHz SUMMARY: The Commission will consider a Notice of Proposed Rulemaking and Notice of Inquiry to increase value, utilization, and investment in the 2 GHz, Big LEO, and L-bands of the Mobile Satellite Service.
3 | WIRELINE COMPETITION | TITLE: Electronic Tariff Filing System (ETFS) SUMMARY: The Commission will consider a Notice of Proposed Rulemaking seeking comment on streamlining the tariff filing and formatting process by transitioning from paper to electronic filing to reduce industry burden and promote an open, transparent, and efficient flow of information.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary,
Office of the Secretary,
Office of Managing Director.

[FR Doc. 2010-17227 Filed 7-12-10; 11:15 am]

BILLING CODE 6712-01-S